NATIONAL AERONAUTICS AND SPACE ADMINISTRATION

[Notice (05-128)]

NASA Aeronautics Research Advisory Committee, Vehicle Systems Program Subcommittee; Meeting.

AGENCY: National Aeronautics and Space Administration.

ACTION: Notice of meeting.

SUMMARY: The National Aeronautics and Space Administration announces a forthcoming meeting of the NASA Aeronautics Research Advisory Committee (ARAC), Vehicle Systems Program Subcommittee (VSPS).

DATES: Wednesday, September 14, 2005, 8:30 a.m. to 5 p.m.

ADDRESSES: National Aeronautics and Space Administration, 300 E Street, SW., Room 6H65, Washington, DC 20546.

FOR FURTHER INFORMATION CONTACT: Mr. Herb Schlickenmaier, Aeronautics Research Mission Directorate, National Aeronautics and Space Administration, Washington, DC 20546, (202) 358-4638.

SUPPLEMENTARY INFORMATION: The meeting will be open to the public up to the seating capacity of the room. The agenda for the meeting is as follows:

—Opening Remarks

—Vehicle Systems Program Overview

—Vehicle Systems Program Status, Accomplishments and Future Direction

—Closing Comments

Attendees will be requested to sign a register and to comply with NASA security requirements, including the presentation of a valid picture ID, before receiving an access badge. Foreign nationals attending this meeting will be required to provide the following information: Full name; gender; date/place of birth; citizenship; visa/green card information (number, type, expiration date); employer/affiliation information (name of institution, address, county, phone); and title/position of attendee. To expedite admittance, attendees can provide identifying information in advance by contacting Neal Nijhawan via e-mail at nnijhawa@nasa.gov or by telephone at (202) 358-2305. Persons with disabilities who require assistance should indicate this.

It is imperative that the meeting be held on these dates to accommodate the scheduling priorities of the key participants.

Dated: August 4, 2005.
P. Diane Rausch,
Advisory Committee Management Officer, National Aeronautics and Space Administration.

[FR Doc. 05-15845 Filed 8-10-05; 8:45 am]

BILLING CODE 7510-13-P